DEPARTMENT OF DEFENSE

Department of the Army, Corps of Engineers

Process To Prepare a Draft Environmental Impact Statement (DEIS) for the Alaska Department of Transportation & Public Facilities Foothills West Transportation Access Project

AGENCY: U.S. Army Corps of Engineers, Department of Defense.

ACTION: Extension of scoping comment period.

SUMMARY: In the May 20, 2011 issue of the Federal Register (76 FR 98:29218-29219), the U.S. Army Corps of Engineers (Corps) published its intent to prepare a DEIS to identify and analyze the potential impacts associated with the proposed Foothills West Transportation Access Project (Foothills Project). In that notice, the Corps stated the scoping comment period was to end on July 5, 2011. Instructions for submitting comments are provided in the May 20, 2011, Federal Register notice. In response to several requests, the Corps has decided to extend the initial scoping comment period to July 26, 2011.

FOR FURTHER INFORMATION CONTACT: Ms. Melissa Riordan, Corps Regulatory Division, Fairbanks, Alaska at (907) 474-2166.

SUPPLEMENTARY INFORMATION: None.

Dated: June 23, 2011.
Melissa C. Riordan,
Project Manager, Alaska District, U.S. Army Corps of Engineers.

[FR Doc. 2011-16543 Filed 6-30-11; 8:45 am]

BILLING CODE 3720-58-P